DEPARTMENT OF COMMERCE

National Oceanic and Atmospheric Administration

[I.D. 040402C]

Coral, Golden Crab, Shrimp, Spiny Lobster, Red Drum, Coastal Migratory Pelagic Resources, and Snapper-Grouper Fisheries of the South Atlantic

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Lindsey G. Parker, Captain R/V GEORGIA BULLDOG, on behalf of the University of Georgia's Marine Education Center and Aquarium (MECA). If granted, the EFP would authorize the applicant, with certain conditions, to collect up to 200 juvenile (undersized) individuals in the snapper-grouper and coastal pelagics complex annually. Less than 10 non egg-bearing spiny or slipper lobster would be collected on each cruise. Two cruises will be made annually in Federal waters off Georgia for public display purposes. Specimens will be displayed at MECA, which is located on Skidaway Island, near Savannah, Georgia.

DATES: Comments must be received no later than 5 p.m., eastern standard time, on May 13, 2002.

ADDRESSES: Comments on the application must be mailed to Peter Eldridge, Southeast Regional Office, NMFS, 9721 Executive Center Drive N., St. Petersburg, FL 33702. Comments also may be sent via fax to 727-570-5583. Comments will not be accepted if submitted via e-mail or Internet.

The application and related documents are available for review upon written request to the address above.

FOR FURTHER INFORMATION CONTACT: Peter Eldridge, 727-570-5305; fax 727-570-5583; e-mail: peter.eldridge@noaa.gov.

SUPPLEMENTARY INFORMATION: The EFP is requested under the authority of the Magnuson-Stevens Fishery Conservation and Management Act (16 U.S.C. 1801 et seq.), and regulations at 50 CFR 600.745(b) concerning exempted fishing.

According to the applicant, MECA, located at Skidaway Island, is a public, non-profit, educational institution established to promote an awareness, understanding, and appreciation of the diverse natural resources associated with Georgia's ocean, estuaries, rivers, streams, and other aquatic environments.

MECA provides a variety of education programs: short academic classes and summer science camps for school children, classes for college students and teachers, and programs for visiting adult groups. The saltwater aquarium exhibits local marine fishes and invertebrates, and is used as an educational tool in these programs.

The applicant intends to make two cruises annually to collect specimens for public display during the period July 1, 2002 through June 30, 2004.

The proposed collection for public display involves activities otherwise prohibited by regulations implementing the Fishery Management Plan (FMP) for the Snapper-Grouper Fisheries of the South Atlantic Region, the FMP for the Coastal Migratory Pelagic Resources (Mackerels), and the FMP for the Spiny Lobster Fishery of the Gulf of Mexico and South Atlantic. The applicant requires authorization to harvest and possess juvenile mackerels, snapper-grouper species, and spiny lobster taken from Federal waters off Georgia.

Based on a preliminary review, NMFS finds that this application warrants further consideration and intends to issue an EFP. A final decision on issuance of the EFP will depend on a NMFS review of public comments received on the application, conclusions of environmental analyses conducted pursuant to the National Environmental Policy Act, and consultations with Georgia, the South Atlantic Fishery Management Council, and the U.S. Coast Guard. The applicant requests a 24-month effective period for the EFP.

Authority: 16 U.S.C. 1801 et seq.

Dated: April 5, 2002.
John H. Dunnigan,
Director, Office of Sustainable Fisheries, National Marine Fisheries Service.

[FR Doc. 02-8831 Filed 4-10-02; 8:45 am]

BILLING CODE 3510-22-S